DEPARTMENT OF ENERGY

Federal Energy Regulatory Commission

[Docket No. ER01-2904-000, et al.]

Pacific Gas and Electric Company, et al.; Electric Rate and Corporate Regulation Filings

August 28, 2001.

Take notice that the following filings have been made with the Commission:

1. Pacific Gas and Electric Company

[Docket No. ER01-2904-000]

Take notice that on August 23, 2001, Pacific Gas and Electric Company (PG&E) tendered for filing two agreements entitled Wholesale Distribution Tariff Service Agreement (Service Agreement) and Agreement for Parallel Operation—Nonutility-Owned Generation (PO”) with Los Alamos Energy, LLC (Los Alamos), submitted pursuant to the PG&E Wholesale Distribution Tariff (WDT).

The Service Agreement permits PG&E to recover the ongoing costs associated with owning, operating and maintaining the Special Facilities. As detailed in the Service Agreement, PG&E proposes to charge Los Alamos a monthly Cost of Ownership Charge equal to the rates for distribution-level, customer-financed and distribution-level, utility-financed facilities in PG&E's currently effective Electric Rule 2, as filed with the California Public Utilities Commission (CPUC). PG&E's currently effective rates of 0.46% and 1.33%, respectively, for distribution-level, customer-financed and distribution-level, utility-financed Special Facilities are contained in the CPUC's Advice Letter 1960-G/1587-E, effective August 5, 1996, a copy of which is included as Attachment 2 of this filing.

Copies of this filing have been served upon Los Alamos, the California Independent System Operator Corporation and the California Public Utilities Commission.

Comment date: September 13, 2001, in accordance with Standard Paragraph E at the end of this notice.

2 Black Hills Corporation, d/b/a Black Hills Power, Inc.

[Docket No. ER01-2913-000]

Take notice that on August 23, 2001, Black Hills Corporation, d/b/a Black Hills Power, Inc., tendered for filing an executed Service Agreement for Non-Firm Point-to-Point Transmission Service with Cargill.

Black Hills Power, Inc. has requested that the executed Service Agreement become effective August 6, 2001.

Copies of the filing were provided to Cargill and to the regulatory commissions for the states of Montana, South Dakota and Wyoming.

Commendate: September 13, 2001, in accordance with Standard Paragraph E at the end of this notice.

3. Carolina Power & Light Company

[Docket No. ER01-2914-000]

Take notice that on August 23, 2001, Carolina Power & Light Company (CP&L) tendered for filing Service Agreements for Short-Term Firm and Non-Firm Point-to-Point Transmission Service with Duke Energy Trading and Marketing, L.L.C. Service to this Eligible Customer will be in accordance with the terms and conditions of the Open Access Transmission Tariff filed on behalf of CP&L.

CP&L is requesting an effective date of August 7, 2001 for the Service Agreements.

Copies of the filing were served upon the North Carolina Utilities Commission and the South Carolina Public Service Commission.

Comment date: September 13, 2001, in accordance with Standard Paragraph E at the end of this notice.

4. Florida Power Corporation

[Docket No. ER01-2915-000]

Take notice that on August 23, 2001, Florida Power Corporation (FPC) filed a Service Agreement with Entergy-Koch Trading, LP under FPC's Short-Form Market-Based Wholesale Power Sales Tariff (SM-1), FERC Electric Tariff No. 10.

FPC is requesting an effective date of August 3, 2001 for this Agreement.

A copy of this filing was served upon the Florida Public Service Commission.

Comment date: September 13, 2001, in accordance with Standard Paragraph E at the end of this notice.

5. American Electric Power Service Corporation

[Docket No. ER01-2916-000]

Take notice that on August 23, 2001, American Electric Power Service Corporation (AEPSC) tendered for filing a Service Agreement for ERCOT Regional Transmission Service between AEPSC and Magic Valley Electric Cooperative Inc. (MVEC) dated July 24, 2001 and an Interconnection Agreement between Central Power and Light Company (CPL) and MEVC dated July 24, 2001.

AEPSC seeks an effective date of July 24, 2001 for both of these agreements which coincides with the termination date of these parties' Agreement for the Supply of Wholesale Electric Power Service to Municipalities and Rural Electric Cooperatives.

AEPSC served copies of the filing on Magic Valley Electric Cooperative, Inc. and the Public Utility Commission of Texas.

Comment date: September 13, 2001, in accordance with Standard Paragraph E at the end of this notice.

6. UtiliCorp United Inc.

[Docket No. ER01-2917-000]

Take notice that on August 23, 2001, UtiliCorp United Inc. (UtiliCorp) tendered for filing, on behalf of its WestPlains Energy-Colorado division (WestPlains), service agreements for sales of energy and capacity to UtiliCorp from Cripple Creek & Victor Gold Mining Company.

Utilicorp requests that the Service Agreements be made effective June 8, 2001.

Comment date: September 13, 2001, in accordance with Standard Paragraph E at the end of this notice.

7. Florida Power Corporation

[Docket No. ER01-2918-000]

Take notice that on August 23, 2001, Florida Power Corporation (FPO) tendered for filing a revision to its Market-Based Wholesale Power Sales Tariff, FERC Electric Tariff, Original Volume No. 8 (Tariff). The revised Tariff includes provisions for affiliate sales, sales of ancillary services at market-based rates, and resales of transmission rights.

FPC requests that the modification become effective August 24, 2001, the day after filing.

Copies of the filing were served upon FPC's customers receiving service under the Tariff and the Florida Public Service Commission.

Comment date: September 13, 2001, in accordance with Standard Paragraph E at the end of this notice.

8. Florida Power Corporation

[Docket No. ER01-2919-000]

Take notice that on August 23, 2001, Florida Power Corporation (FPC) tendered for filing a revised Short-Form Market-Based Wholesale Power Sales Tariff, FERC Electric Tariff, Original Volume No. 10 (Short-Form Tariff). The Short-Form Tariff is revised to include the Detroit Edison protections for affiliate sales. See Detroit Edison Company et al., 80 FERC 61,348 (1997).

FPC requests that the revision become effective August 24, 2001.

Copies of the filing were served upon FPC's customers receiving service under the Short-Form Tariff and the Florida Public Service Commission.

Comment date: September 13, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22093 Filed 8-31-01; 8:45 am]

BILLING CODE 6717-01-P